DEPARTMENT OF THE INTERIOR

Bureau of Reclamation

[RR83550000, 190R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

New contract actions:

18. Cascade ID, Yakima Project, Washington: Contract for Yakima Tribes use of Cascade ID's canal for Melvin R. Sampson Hatchery.

19. Bitter Root ID, Bitter Root Project, Montana: Amendment to SOD contract to extend repayment period.

20. Water user entities responsible for repayment of reimbursable project construction costs in Idaho, Washington, Oregon, Montana, and Wyoming: Contracts for conversion or prepayment executed pursuant to the Water Infrastructure Improvements for the Nation Act, Public Law 114-322, Sec. 4011(a-d).

Mid-Pacific Region: Bureau of Reclamation, 2800 Cottage Way, Sacramento, California 95825-1898, telephone 916-978-5250.

New contract action:

53. Water user entities responsible for repayment of reimbursable project construction costs in California, Nevada, and Oregon: Contracts for conversion or prepayment executed pursuant to the Water Infrastructure Improvements for the Nation Act, Public Law 114-322, Sec. 4011(a-d).

Lower Colorado Region: Bureau of Reclamation, P.O. Box 61470 (Nevada Highway and Park Street), Boulder City, Nevada 89006-1470, telephone 702-293-8192.

New contract actions:

21. Present Perfected Right 30 (Stephenson), BCP, California: Offer contracts for delivery of Colorado River water to holders of miscellaneous present perfected rights as described in the 2006 Consolidated Decree in Arizona v. California, 547 U.S. 150.

22. San Carlos Apache and Pascua Yaqui Tribes, CAP, Arizona: Execute a CAP water lease for the San Carlos Apache Tribe to lease 1,750 acre-feet of its CAP water to the Pascua Yaqui Tribe during calendar year 2019.

Completed contract actions:

4. Ogram Farms, BCP, Arizona: Assign the contract to the new landowners and revise Exhibit A of the contract to change the contract service area and points of diversion/delivery. Contract executed on August 23, 2018.

10. Cibola Valley IDD and Western Water, LLC, BCP, Arizona: Execute a proposed partial assignment of fourth priority Colorado River water in the amount of 621.48 acre-feet per year from the District to Western Water, LLC and a new Colorado River water delivery contract with Western Water, LLC. Contract executed on July 24, 2018.

11. Red River Land Company, LLC; BCP; Arizona: Review and approve a proposed partial assignment of 300 acre-feet per year of Arizona fourth priority Colorado River water entitlement from Cibola Valley IDD to Red River and execute the associated amendment to Cibola Valley IDD's contract and enter into a Colorado River water delivery contract with Red River. Contract executed on July 24, 2018.

13. Rayner Ranches, BCP, Arizona: Review and approve a proposed assignment of Rayner Ranches Colorado River water delivery contract for 4,500 acre-feet per year to GM Gabrych Family, LP and execute a new Colorado River water delivery contract with GM Gabrych Family, LP. Contract executed on August 31, 2018.

19. San Carlos Apache Tribe and Freeport Minerals Corporation, CAP, Arizona: Execute a CAP water lease in order for the San Carlos Apache Tribe to lease 17,010 acre-feet of its CAP water to Freeport Minerals Corporation during calendar year 2018. Lease executed on June 13, 2018.

Upper Colorado Region: Bureau of Reclamation, 125 South State Street, Room 8100, Salt Lake City, Utah 84138-1102, telephone 801-524-3864.

The Upper Colorado Region has no updates to report for this quarter.

Great Plains Region: Bureau of Reclamation, P.O. Box 36900, Federal Building, 2021 4th Avenue North, Billings, Montana 59101, telephone 406-247-7752.

New contract action:

34. Garrison Diversion Conservancy District; Garrison Diversion Unit, P-SMBP; North Dakota: Consideration of a contract for 20 cubic-feet-per-second of water for rural and M&I purposes.

Deleted contract actions:

13. Central Oklahoma Master Conservancy District, Norman Project, Oklahoma: Amend existing contract No. 14-06-500-590 to execute a separate contract(s) to allow for importation and storage of nonproject water in accordance with the Lake Thunderbird Efficient Use Act of 2012.

16. Dickinson-Heart River Mutual Aid Corporation; Dickinson Unit, Heart Division; P-SMBP; North Dakota: Consideration of amending the long-term irrigation water service contract to modify the acres irrigated.

Completed contract actions:

12. Purgatoire Water Conservancy District, Trinidad Project, Colorado: Consideration of a request to amend the contract. Contract executed on August 9, 2018.

25. Keyhole Country Club; Keyhole Unit, P-SMBP; North Dakota: Consideration of renewal of contract No. 8-07-60-WS042. Contract executed on June 20, 2018.

31. Kansas Bostwick ID; Bostwick Division, P-SMBP; Kansas: Consideration of an amendment to contract No. 16XX630077 to reflect the actual annual expenditures. Contract executed on April 16, 2018.

32. Bostwick ID; Bostwick Division, P-SMBP; Nebraska: Consideration of an amendment to contract No. 16XX630076 to reflect the actual annual expenditures. Contract executed on April 30, 2018.

33. Cody Canal ID, Shoshone Project, Wyoming: Consideration of an amendment to long-term agreement No. 9-AB-60-00060 to extend the term for 30 years. Contract executed on September 17, 2018.

Dated: December 11, 2018.
Karl Stock,
Acting Director, Policy and Administration.

[FR Doc. 2018-27329 Filed 12-17-18; 8:45 am]

BILLING CODE 4332-90-P